ENVIRONMENTAL PROTECTION AGENCY

[ER-FRL-6625-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated May 18, 2001 (66 FR 27647).

Draft EISs

ERP No. D-BIA-K03026-CA Rating EC2, Teayawa Energy Center, Construction and Operation of a 600 megawatt (MW)(nominal output), Natural-Gas-Fired, Combined-Cycle Energy Center, On Indian Trust Land, Torres Martinez Desert Cahuilla Indians Tribe, Coachella Valley, Riverside County, CA.

Summary: EPA expressed environmental concerns and requested additional information regarding potential impacts to air quality, water resources, and other alternatives considered.

ERP No. D-BLM-K81027-NV Rating EC2, Nevada Test and Training Range Resource Management Plan, (formerly Known as the Nellis Air Force Range (NAFR)), Implementation, Clark, Nye and Lincoln Counties, NV.

Summary: EPA expressed environmental concerns regarding the protection of water quality and biological resources, especially those dependent on water quality, and asked that the Bureau of Land Management incorporate pollution prevention practices in the resource planning area.

ERP No. D-COE-E36180-MS Rating EC2, Yalobusha River Watershed, Demonstration Erosion Control Project, Construction of Six Floodwater-Retarding Structures, Yazoo Basin, Webster, Calhoun and Chickasaw Counties, MS.

Summary: EPA expressed environmental concerns about the long-terms effects of the preferred channelization and reservoir alternative and whether this was the best means to achieve project objectives.

ERP No. D-FHW-E40791-SC Rating EO2, James E. Clyburn Connector Project, Construction of a Two-Lane Rural Roadway Northeast of Orangeburg and Southwest of Sumter, Funding and US Army COE Section 404 Permit Issuance, Calhoun, Claredon and Sumter Counties, SC.

Summary: EPA expressed environmental objections to the project as proposed because of the potential impacts to waters of the U.S., noise, and habitat; and requested additional information regarding these potential impacts.

ERP No. D-NPS-E65058-GA Rating LO, Fort Frederica National Monument General Management Plan, Implementation, Saint Simons Island, Glynn County, GA.

Summary: EPA review did not identify any potential environmental impacts requiring substantive changes to the proposal.

ERP No. D-NPS-G61041-AR Rating LO, Little Rock Central High School National Historic Site General Management Plan, Future Management and Use, Implementation, Little Rock, AR.

Summary: EPA has no objection to the selection of the preferred alternative.

ERP No. D-UAF-G11041-OK Rating EC2, Altus Air Force Base (AFB), Proposed Airfield Repairs, Improvements, Adjustments to Aircrew Training, and Installation of an Instrument Landing System (ILS) and a Microwave Landing System (MLS), Jackson County, OK.

Summary: EPA has identified environmental concerns regarding the need to provide more balance in the impact analysis and mitigation measures.

ERP No. DS-FHW-H40088-IA Rating EC2, IA-100 Extension Around Cedar Rapids, Edgewood Road to US 30, Reevaluation of the Project Corridor and Changes in Environmental Requirements, Funding and US Army COE Section 404 Permit Issuance, Linn County, IA.

Summary: EPA expressed environmental concerns that the project as proposed will affect the Rock Island Preserve both as a park and as habitat for the Byssus Skipper, a state threatened species of butterfly. EPA requested additional information regarding the design of the preferred alternative so impacts to the Preserve, the butterfly, wetlands and floodplains may be minimized.

Final EISs

ERP No. F-COE-G39033-LA West Bay Sediment Diversion Channel Construction Project, Funding, Plaquemines Parish, LA.

Summary: EPA has no further comments to offer on the Final EIS and has no objections to the selection of the lead agency's preferred alternative.

ERP No. F-FHW-F40223-MN I-494 Reconstruction Corridor Study, I-394 on the west to the Minnesota River, Funding and US Army COE Section 404 Permit Issuance, Hennepin County, MN.

Summary: EPA expressed environmental objections that the final EIS does not present an adequate wetland mitigation plan and that wetland impacts have increased substantially. Until an adequate wetland mitigation plan is developed, EPA would object to the issuance of a Clean Water Act (CWA) Section 404 Permit for the Preferred Alternative identified in the FEIS.

ERP No. F-FHW-K40239-CA Interstate 215 (I-215) Transportation Improvements, from the short segments of CA-60 and CA-91 in the Cities of Riverside and Moreno Valley, Funding, Riverside County, CA.

Summary: EPA expressed continuing environmental concerns that the project will provide only marginal relief to congestion while compounding the poor air quality in the region. EPA requested additional air quality information be included in the ROD.

ERP No. F-NPS-K61151-CA Lassen Volcanic National Park General Management Plan, Implementation, Lassen, Plumas, Shasta and Tehama Counties, CA.

Summary: No formal comment letter was sent to the preparing agency.

Dated: December 20, 2001.
Joseph C. Montgomery,
Director, NEPA Compliance Division, Office of Federal Activities.

[FR Doc. 01-32038 Filed 12-28-01; 8:45 am]

BILLING CODE 6560-50-U